INTERNATIONAL TRADE COMMISSION

[USITC SE-16-036]

Government in the Sunshine Act Meeting Notice

AGENCY HOLDING THE MEETING: United States International Trade Commission.

TIME AND DATE: November 15, 2016 at 11:00 a.m.

PLACE: Room 101, 500 E Street SW., Washington, DC 20436, Telephone: (202) 205-2000.

STATUS: Open to the public.

MATTERS TO BE CONSIDERED:

1. Agendas for future meetings: none.

2. Minutes.

3. Ratification List.

4. Vote in Inv. Nos. 731-TA-1174 and 1175 (Review)(Seamless Refined Copper Pipe and Tube from China and Mexico). The Commission is currently scheduled to complete and file its determinations and views of the Commission on November 30, 2016.

5. Outstanding action jackets: None.

In accordance with Commission policy, subject matter listed above, not disposed of at the scheduled meeting, may be carried over to the agenda of the following meeting.

By order of the Commission.
Issued: November 8, 2016.
William R. Bishop,
Supervisory Hearings and Information Officer.

[FR Doc. 2016-27295 Filed 11-8-16; 4:15 pm]

BILLING CODE 7020-02-P